DEPARTMENT OF DEFENSE

Department of the Army: Corps of Engineers

Intent To Prepare a Draft Environmental Impact Statement to Evaluate a Permit Application by the New Jersey Turnpike Authority

AGENCY: U.S. Army Corps of Engineers—New York District, DoD.

ACTION: Notice of intent.

SUMMARY: The New Jersey Turnpike Authority of New Brunswick, New Jersey has submitted an application for a Department of the Army permit to discharge fill material permanently impacting approximately 12 acres of waters of the United States including wetlands, and to temporarily fill other waters, to facilitate the construction of a limited-access toll roadway known as New Jersey Route 92. The discharge of fill material into waters of the United States requires a Department of the Army Permit pursuant to section 404 of the Clean Water Act (33 U.S.C. 1344). The Environmental Impact Statement (EIS) process will assist the U.S. Army Corps of Engineers (USACE) in determining whether to issue or deny a permit for the project under that authority. This action is taking place in accordance with the USACE procedures for implementing the National Environmental Policy Act (NEPA), 33 CFR Parts 230 and 325.

FOR FURTHER INFORMATION CONTACT: Mr. James W. Haggerty, Chief, Eastern Permits Section, New York District, U.S. Army Corps of Engineers, 26 Federal Plaza, Room 1937, New York, New York 10278-0090, e-mail James.W.Haggerty@usace.army.mil Telephone (212) 264-3912

SUPPLEMENTARY INFORMATION:

1. Project Description

The New Jersey Turnpike Authority has submitted an application for a Department of the Army permit to discharge fill material permanently impacting approximately 12 acres of waters of the United States including wetlands, and to temporarily fill other waters, to facilitate the construction of a limited-access toll roadway known as New Jersey Route 92. The proposed roadway corridor is within the Devils Brook and Shallow Brook watersheds in the Townships of South Brunswick, Monroe and Plainsboro, Middlesex County, New Jersey. The applicant has submitted a wetlands mitigation plan with the application, proposing creation of approximately 57 acres of wetlands from existing uplands and proposing preservation activities. In total, approximately 260 acres of mostly forested wetlands, owned by the applicant adjacent to the proposed roadway corridor, would be created and/or preserved.

On February 7, 2000, USACE completed an analysis of the Need to Prepare an EIS. This analysis was prepared under the Corps of Engineers and Council on Environmental Quality regulations for implementing NEPA. The analysis was prepared utilizing information made available through the public interest process until that date, including the issuance of a public notice and the conduct of a public hearing in Plainsboro, New Jersey on March 29, 1999. The analysis concluded that USACE will require the preparation of an EIS to process the application.

2. Reasonable Alernatives

In addition to the no action alternative, reasonable alternatives to be considered include the following:

a. Preferred Alternative of New Jersey Turnpike Authority

b. Alternatives to construction as proposed

c. Alternate construction techniques

3. EIS Scoping

As part of the EIS scoping process, comments on the proposed scope of the EIS will be accepted until 45 days after the publication of this Notice of Intent in the Federal Register. All comments should be addressed to the contact person indicated above. In addition to receiving written comments, the USACE will receive oral comments during a public scoping meeting to be scheduled for the latter part of the scoping period. Notice of the public scoping meeting will be made through mailings and/or the New York District's website. (http://www.nan.usace.army.mil)

4. Public Participation in the EIS Process

The EIS process will provide opportunities for full participation by interested federal, state, and local agencies, as well as other interested organizations and the general public. All interested parties are encouraged to submit their names and addresses to the contact person indicated above for inclusion on the list for distribution of the draft and final EIS and any related public notices.

5. Federal Agency Participation in the EIS Process

Federal agencies with an interest in this EIS effort are requested to participate as cooperating agencies pursuant to 40 CFR part 1501.6. All interested federal agencies are requested to submit a letter of intent to Joseph J. Seebode, Chief, Regulatory Branch, New York District, U.S. Army Corps of Engineers.

Joseph J. Seebode,
Chief, Regulatory Branch.

[FR Doc. 00-10633 Filed 4-27-00; 8:45 am]

BILLING CODE 3710-06-M